DEPARTMENT OF AGRICULTURE

Forest Service

Application of Notice, Comment, and Appeal Procedures for Certain Projects and Activities

AGENCY: Forest Service, USDA.

ACTION: Notice.

SUMMARY: Pending the adoption of an interim final rule, the Forest Service will apply the notice, comment, and appeal procedures in 36 CFR part 215 to certain project and activity decisions. This action is required by the terms of a settlement agreement of litigation between the U.S. Forest Service and Heartwood, Incorporated.

EFFECTIVE DATE: Notice, comment, and appeal procedures apply to those project and activity decisions identified in the settlement agreement and made after October 24, 2000.

ADDRESSES: Written inquiries, as well as requests for the settlement agreement, may be sent to the Director, Ecosystem Management Coordination Staff, USDA Forest Service, P.O. Box 96090, Washington, DC 20090-6090.

FOR FURTHER INFORMATION CONTACT: Steve Segovia, Assistant Director for Appeals and Litigation, telephone (202) 205-1066; FAX (202) 205-1012.

SUPPLEMENTARY INFORMATION: In the matter of Heartwood, Inc. v. U.S. Forest Service, Civ. No. 99-4255 (S.D. III. Sept. 15, 2000), the agency and plaintiff entered a settlement agreement that the agency would promulgate an interim final rule settling forth the notice, comment, and appeal procedures at 36 CFR part 215 for the following projects and activities:

(1) Projects involving the use of prescribed burning;

(2) Projects involving the creation or maintenance of wildlife openings;

(3) The designation of travel routes for off-highway vehicle (OHV)( use which is not conducted through the travel management planning process as part of the forest planning process;

(4) The construction of new OHV routes and facilities intended to support OHV use;

(5) The upgrading, widening, or modification of OHV routes to increase either the levels or types of use by OHVs (but not projects performed for the maintenance of existing routes);

(6) The issuance or reissuance of special use permits for OHV activities conducted on areas, trails, or roads that are not designated for such activities;

(7) Projects in which the cutting of trees for thinning or wildlife purposes occurs over an area greater than 5 contiguous acres;

(8) Gathering geophysical data using shorthole, vibroseis, or surface charge;

(9) Trenching to obtain evidence of mineralization;

(10) Clearing vegetation for sight paths from areas used for mineral, energy, or geophysical investigation or support facilities for such activities.

At the time of publication of the interim rule, the agency also will invite public comment for consideration in adopting a final rule.

Pending adoption of this interim rule, the agency agreed to give notice in the Federal Register that it would apply these notice, comment, and appeal procedures as of the effective date given in the notice.

A copy of the settlement agreement is available by writing the address listed earlier in this notice or by logging onto the “NEPA, NFMA and Appeals” page of the Forest Service homepage of the World Wide Web, the address for which is http://www.fs.fed.us/forum/nepa.

Dated: October 11, 2000.
James R. Furnish,
Deputy Chief for National Forest System.

[FR Doc. 00-26567 Filed 10-16-00; 8:45 am]

BILLING CODE 3410-11-M